DEPARTMENT OF THE INTERIOR

National Park Service

Notice of Inventory Completion: U.S. Department of Agriculture, Forest Service, Santa Fe, NM and Maxwell Museum of Anthropology, University of New Mexico, Albuquerque, NM

AGENCY: National Park Service, Interior.

ACTION: Notice.

Notice is here given in accordance with the Native American Graves Protection and Repatriation Act (NAGPRA), 25 U.S.C. 3003, of the completion of an inventory of human remains in the control of the U.S. Department of Agriculture, Forest Service, Santa Fe National Forest, Santa Fe, NM, and in the possession of the Maxwell Museum of Anthropology, University of New Mexico, Albuquerque, NM. The human remains were removed from site BJ 74 (LA 38962), Sandoval County, NM.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Santa Fe National Forest and the Maxwell Museum of Anthropology professional staff in consultation with representatives of the Pueblo of Jemez, New Mexico.

Between 1939 and 1949, human remains representing a minimum of seven individuals were removed from BJ 74 (LA 38962) in Sandoval County, NM, during legally authorized excavations undertaken by the University of New Mexico's Archaeological Field School. Subsequent to the excavations, the human remains and other archeological materials were removed without notification to the Forest Service to Grinnell College, Grinnell, IA, for analysis and preparation of a site excavation report. In the summer of 2007, Grinnell College had the human remains and artifacts delivered to the Maxwell Museum of Anthropology, who promptly notified the Forest Service of the existence of the collection. No known individuals were identified. No associated funerary objects are present.

Site BJ 74 (LA 38962) has been identified as an early historic Puebloan habitation site based on ceramics, architecture, and site organization. The site was occupied during the mid-16th century to the late 17th century A.D. Continuities of ethnographic materials, technologies, and architecture indicate the affiliation of this site with the present-day Pueblo of Jemez. Oral traditions of the Pueblo of Jemez support affiliation with early historic Puebloan sites in this area of north-central New Mexico.

Officials of the U.S. Department of Agriculture, Forest Service, Santa Fe National Forest have determined that, pursuant to 25 U.S.C. 3001 (9-10), the human remains described above represent the physical remains of seven individuals of Native American ancestry. Officials of the U.S. Department of Agriculture, Forest Service, Santa Fe National Forest have determined that, pursuant to 25 U.S.C. 3001 (2), there is a relationship of shared group identity that can be reasonably traced between the Native American human remains and the Pueblo of Jemez, New Mexico.

Representatives of any other Indian tribe that believes itself to be culturally affiliated with the human remains should contact Dr. Frank E. Wozniak, NAGPRA Coordinator, Southwestern Region, U.S. Department of Agriculture, Forest Service, 333 Broadway Blvd. SE, Albuquerque, NM 87102, telephone (505) 842-3238, before March 4, 2009. Repatriation of the human remains to the Pueblo of Jemez, New Mexico may proceed after that date if no additional claimants come forward.

The U.S. Department of Agriculture, Forest Service, Santa Fe National Forest is responsible for notifying the Pueblo of Jemez, New Mexico that this notice has been published.

Dated: January 5, 2009
Sherry Hutt,
Manager, National NAGPRA Program.

[FR Doc. E9-2143 Filed 1-30-09; 8:45 am]

BILLING CODE 4312-50-S